DEPARTMENT OF HOUSING AND URBAN DEVELOPMENT

[Docket No. FR-5828-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Office of the Assistant Chief of Staff for Installation Management, Department of Army, Room 5A128, 600 Army Pentagon, Washington, DC 20310, (571)-256-8145; (This is not a toll-free number).

Dated: June 18, 2015.
Brian P. Fitzmaurice,
Director, Division of Community Assistance, Office of Special Needs Assistance Programs.

TITLE V, FEDERAL SURPLUS PROPERTY PROGRAM FEDERAL REGISTER REPORT FOR 06/26/2015

SUITABLE/AVAILABLE PROPERTIES

Building

Alabama

3 Buildings

Fort Rucker

Fort Rucker AL 36362

Landholding Agency: Army

Property Number: 21201520022

Status: Unutilized

Directions: L241G (64 sq.ft.); 1329 (64 sq.ft.); 1328 (693 sq.ft.)

Comments: Off-site removal; range from 20-23 yrs. old; fair condition; vacant 5-8 mos.; naval bldg.; flam mat; prior approval to gain access is required; no future agency need; contact Army for more information.

Building 40188

Lowe Airfield Road

Fort Rucker AL 36362

Landholding Agency: Army

Property Number: 21201520037

Status: Unutilized

Comments: Off-site removal only; 17+ yrs. Old; 480 sq. ft.; admin.; 2+ mos. vacant; poor condition; no future agency need; prior approval to gain access required; contact Army for more information.

2 Building

Lake Shore Drive

Fort Rucker AL 36362

Landholding Agency: Army

Property Number: 21201520038

Status: Unutilized

Directions: Building 24110 (1,427 sq. ft.); 24109 (1,358 sq. ft.)

Comments: Off-site removal only; 69+ yrs. old; rec billets; 2+ mos. vacant; poor conditions; prior approval needed for access; no future agency need; contact Army for more information.

Building 5001T

Fort Rucker

Fort Rucker AL 36362

Landholding Agency: Army

Property Number: 21201520039

Status: Unutilized

Comments: Off-site removal only; 17+ yrs. old; 1,440 sq. ft.; gen inst. bldg.; 2+ mos. vacant; fair condition; prior approval to gain access required; no future agency need; contact Army for more information.

Building L264A

Fort Rucker

Fort Rucker AL 32425

Landholding Agency: Army

Property Number: 21201520040

Status: Unutilized

Comments: Off-site removal only; 23+ yrs. old; 64 sq. ft.; NAV bldg.; 5+ mos. vacant; fair condition; prior approval needed to gain access; no future agency need; contact Army for more information.

Building L241F

Fort Rucker

Fort Rucker AL

Landholding Agency: Army

Property Number: 21201520041

Status: Unutilized

Comments: Off-site removal only; 32+ yrs. old; 1,018 sq. ft.; 5+ mos. vacant; nav. bldg.; fair conditions; prior approval needed to gain access; no future agency need; contact Army for more information.

Arizona

2 Building

5636 E. McDowell Road

Phoenix AZ 85008

Landholding Agency: Army

Property Number: 21201520007

Status: Excess

Directions: Building M5502 (5,856 sq. ft.) & M5331 (2,460 sq. ft.)

Comments: 45+ & 62 +yrs. old for buildings respectively above; administration; restricted access; escort required; contact Army for more information.

Arkansas

Building 60330

60330 Ave 6160

Pine Bluff AR 71602

Landholding Agency: Army

Property Number: 21201520035

Status: Unutilized

Comments: Off-site removal only; 23+ yrs. old; 560 sq. ft.; break/lunch room; needs repairs; no future agency need; contact Army for more information.

Building 54050

54050 507 St.

Pine Bluff AR 71602

Landholding Agency: Army

Property Number: 21201520036

Status: Unutilized

Comments: Off-site removal; 24+ yrs. old; 2,973 sq. ft.; employee changing bldg.; repairs needed; no future agency need; contact Army for more information.

Colorado

Building 00209

4809 Tevis Street

Fort Carson CO 80913

Landholding Agency: Army

Property Number: 21201520018

Status: Unutilized

Comments: Off-site removal; 49+ yrs. old; 400 sq. ft.; housing; vacant 3 mos.; repairs required; asbestos; no future agency need; contact Army for more information.

Building 00220

4860 Tevis Street

Fort Carson CO 80913

Landholding Agency: Army

Property Number: 21201520033

Status: Excess

Comments: Off-site removal only; 73+ yrs. Old; 690 sq. ft.; Eng./housing; repairs required; concrete; maybe difficult to move; asbestos; no future agency need; contact Army for more information.

Georgia

10 Buildings

Fort Benning

Fort Benning GA 31905

Landholding Agency: Army

Property Number: 21201520011

Status: Underutilized

Directions: 00035 (890 sq. ft.); 00036 (890 sq. ft.); 00235 (4,390 sq. ft.); 08001 (288 sq. ft.); 08007 (288 sq. ft.); 08012 (288 sq. ft.); 08014 (288 sq. ft.); 08034 (192 sq. ft.); 08582 (192 sq. ft.); 08597 (192 sq. ft.);

Comments: Off-site removal; 10-94 yrs. old for buildings respectively above; toilet/shower; laundry; administrative; poor condition; no future agency need; contact Army for more information;

9 Buildings

Fort Benning

Fort Benning GA 31905

Landholding Agency: Army

Property Number: 21201520012

Status: Underutilized

Directions: 08821 (192 sq. ft.), 8781 (1,007 sq. ft.), 08730 (800 sq. ft.), 08729 (192 sq. ft.), 08721 (384 sq. ft.), 08681 (192 sq. ft.), 08637 (384 sq. ft.), 08600 (192 sq. ft.), 08618 (192 sq. ft.)

Comments: Off-site removal; 10-50 yrs. old for buildings respectively above; poor condition; toilet/shower, range; no future agency need; contact Army for more information.

2 Buildings

Fort Benning

Fort Benning GA 31905

Landholding Agency: Army

Property Number: 21201520028

Status: Unutilized

Directions: Buildings 04969 (8,416 sq. ft.), 04960 (3,335 sq. ft.)

Comments: Off-site removal; 34+ & 48+ yrs. old; vehicle MAINT.; poor conditions; contaminants; restricted access; no future agency need; contact Army for more information.

Illinois

Building 140

1515 W. Central Rd.

Arlington Heights IL 60005

Landholding Agency: Army

Property Number: 21201520034

Status: Unutilized

Comments: Off-site removal only; 58+ yrs. old; 4.737 sq. ft.; 42+ mos. vacant; housing equipment; poor conditions; prior approval needed to gain access; no future agency need; contact Army for more information.

Maryland

Building 01245

1245 Rocky Springs Road

Frederick MD 21702

Landholding Agency: Army

Property Number: 21201520042

Status: Unutilized

Comments: Off-site removal only; 20+ yrs. old; 120 sq. ft.; vacant 1+ mos.; arms storage; good condition; no future agency need; contact Army for more information.

New York

Building 2560

Munns Corners Road

Fort Drum NY 13601

Landholding Agency: Army

Property Number: 21201520032

Status: Underutilized

Comments: Off-site removal; 36 sq. ft.; no future agency need; communication ctr.; poor conditions; contact Army for more information.

Texas

4 Buildings

Fort Hood

Fort Hood TX 76544

Landholding Agency: Army

Property Number: 21201520026

Status: Unutilized

Directions: Buildings 12000 (284 sq.ft.); 4496 (284 sq.ft.); 27000 (284 sq.ft.); 86000 (284 sq.ft.)

Comments: Off-site removal; 32+ yrs. old; equipment bldgs.; 1+ mos. vacant; no future agency need; contact Army for more information.

10 Buildings

USAG Fort Bliss

USAG Fort Bliss TX 79916

Landholding Agency: Army

Property Number: 21201520043

Status: Unutilized

Directions: Building 05096 (768 sq.ft.); 08396 (198 sq.ft.); 08395 (198 sq.ft.); 08380 (900 sq.ft.); 08365 (132 sq.ft.); 08364 (432 sq.ft.); 08309 (120 sq.ft.); 08348 (108 sq.ft.); 08268 (432 sq.ft.); 08349 (100 sq.ft.)

Comments: Off-site removal; 28-70 yrs. old for bldgs. respectively above; admin; toilet; storage; range bldg.; off. qtrs. vacant 12-60 mos.; poor conditions; no future agency need; contact Army for more info.

Building 01129

Red River Army Depot

100 James Carlow Drive

Texarkana TX 75507

Landholding Agency: Army

Property Number: 21201520046

Status: Excess

Comments: Off-site removal; 37+ yrs. old; 200 sq. ft.; storage; poor conditions; asbestos; contact Army for more information.

Unsuitable Properties

Building

Alabama

2 Buildings

Redstone Arsenal

Redstone Arsenal AL 35898

Landholding Agency: Army

Property Number: 21201520024

Status: Unutilized

Directions: Buildings 4122, 4123

Comments: Public access denied and no alternative method to gain access without compromising national security.

Reasons: Secured Area; Within 2000 ft. of flammable or explosive material

Building 4120A

4120A Redstone Road

Redstone AL 35898

Landholding Agency: Army

Property Number: 21201520025

Status: Unutilized

Comments: Flammable/explosive materials are located on adjacent industrial, commercial, or Federal facility.

Reasons: Within 2000 ft. of flammable or explosive material

Building 4120

4120 Redstons Road

Madison AL 35898

Landholding Agency: Army

Property Number: 21201520045

Status: Unutilized

Comments: Flammable/explosive materials are located on adjacent industrial, commercial, or Federal facility. Public access denied and no alternative method to gain access without compromising national security.

Reasons: Secured Area; Within 2000 ft. of flammable or explosive material

Arizona

4 Buildings

5636 E. McDowell Road

Phoenix AZ 85008

Landholding Agency: Army

Property Number: 21201520006

Status: Excess

Directions: Building M5352, M5354, M5358, M5356

Comments: Flammable materials located on adjacent property w/in 200 ft.

Reasons: Within 2000 ft. of flammable or explosive material

California

4 Buildings

Sierra Army Depot

Herlong CA 96113

Landholding Agency: Army

Property Number: 21201520023

Status: Unutilized

Directions: Buildings 00017, 00502, 00503, 00504

Comments: Public access denied and no alternative method to gain access without compromising national security.

Reasons: Secured Area

Building 275

275 7th Division Road

Fort Hunter Liggett CA 93928

Landholding Agency: Army

Property Number: 21201520027

Status: Unutilized

Comments: Public access denied and no alternative method to gain access without compromising national security.

Reasons: Secured Area

Colorado

4 Buildings

Fort Carson

Fort Carson CO 80913

Landholding Agency: Army

Property Number: 21201520016

Status: Underutilized

Directions: Buildings 01669, 00221, 00210, 00207

Comments: Public access denied and no alternative method to gain access without compromising national security.

Reasons: Secured Area

2 Buildings

Fort Carson

Fort Carson CO 80913

Landholding Agency: Army

Property Number: 21201520017

Status: Unutilized

Directions: Building 00812, 0209A

Comments: Public access denied and no alternative method to gain access without compromising national security.

Reasons: Secured Area

Kentucky

3 Buildings

Blue Grass Army Depot

431 Battlefield Memorial Hwy

Richmond KY 40475

Landholding Agency: Army

Property Number: 21201520004

Status: Unutilized

Directions: Building 00570, 00571, 00572

Comments: Public access denied and no alternative method to gain access without compromising national security.

Reasons: Secured Area

Building 01159

Blue Grass Army Depot

431 Battlefield Memorial Hwy

Richmond KY 40475

Landholding Agency: Army

Property Number: 21201520005

Status: Underutilized

Comments: Public access denied and no alternative method to gain access without compromising national security.

Reasons: Secured Area

Maryland

Building 01247

Fort Detrick

Frederick MD 21702

Landholding Agency: Army

Property Number: 21201520029

Status: Unutilized

Comments: Public access denied and no alternative method to gain access without compromising national security.

Reasons: Secured Area

E5868

Aberdeen Proving Ground

5868 Austin Rd.

Harford MD 21005

Landholding Agency: Army

Property Number: 21201520049

Status: Unutilized

Comments: Public access denied and no alternative method to gain access without compromising national security.

Reasons: Secured Area

Nebraska

Building 00051

Camp Ashland

220 County Road A

Ashland NE 68003

Landholding Agency: Army

Property Number: 21201520008

Status: Unutilized

Comments: Public access denied and no alternative method to gain access without compromising national security; Property located within floodway which has not be correct or contained.

Reasons: Secured Area; Floodway

Building 00464

Camp Ashland

220 County Road A

Ashland NE 68003

Landholding Agency: Army

Property Number: 21201520009

Status: Excess

Comments: Public access denied and no alternative method to gain access without compromising national security; Property located within floodway which has not be correct or contained.

Reasons: Secured Area; Floodway

New York

3 Buildings

Fort Drum

Fort Drum NY 13602

Landholding Agency: Army

Property Number: 21201520021

Status: Underutilized

Directions: Buildings 2153, 175, 173

Comments: Public access denied and no alternative method to gain access without compromising national security.

Reasons: Secured Area

North Carolina

21 Buildings

Ft. Bragg

Ft. Bragg NC 28310

Landholding Agency: Army

Property Number: 21201520013

Status: Unutilized

Directions: Buildings W3276, W3173, M6748, M6148, A5436, A5421, A5236, A5036, A5035, A5025, A5024, A4935, A4934, A4933, A4932, A4928, A4927, A4926, A4925, A4924, 229

Comments: Public access denied and no alternative method to gain access without compromising national security.

Reasons: Secured Area

Building 14930

3225 Normandy Drive

Ft. Bragg NC 28310

Landholding Agency: Army

Property Number: 21201520014

Status: Underutilized

Comments: Public access denied and no alternative method to gain access without compromising national security.

Reasons: Secured Area

Pennsylvania

9 Buildings

Defense Distribution Susquehanna, PA

New Cumberland PA 17070

Landholding Agency: Army

Property Number: 21201520010

Status: Underutilized

Directions: Building 0090; 00901; 00902; 00904; 02021; 02023; 02024; 02025; 02027

Comments: Public access denied and no alternative method to gain access without compromising national security; Property located within an airport runway clear zone or military airfield.

Reasons: Secured Area; Within airport runway clear zone

Puerto Rico

13 Buildings

USAG Ft. Buchanan, RQ327

Fort Buchanan PR 00934

Landholding Agency: Army

Property Number: 21201520015

Status: Excess

Directions: Buildings T0009, 01322, 01305, 01147, 01146, 01145, 01144, 01143, 01142, 01141, 01140, 00802, 00519

Comments: Public access denied and no alternative method to gain access without compromising national security.

Reasons: Secured Area

Tennessee

Building 127

Holston Army Ammunition Plant

Kingsport TN 37660

Landholding Agency: Army

Property Number: 21201520031

Status: Unutilized

Comments: Public access denied and no alternative method to gain access without compromising national security.

Reasons: Secured Area

Texas

Building 01249

1249 Irwin Rd.

Fort Bliss TX 79916

Landholding Agency: Army

Property Number: 21201520044

Status: Unutilized

Comments: Public access denied and no alternative method to gain access without compromising national security.

Reasons: Secured Area

Virginia

16 Buildings

Radford Army Ammunition Plant

Radford VA 24143

Landholding Agency: Army

Property Number: 21201520019

Status: Unutilized

Directions: Buildings 71063, 7106-02A, 71062, 49103B, 49103A, 49102B, 2560B, 2521, 2518B, 2518A, 2517B, 2517A, 2515A, 7106-03A, 71064, 7106-04A

Comments: Public access denied and no alternative method to gain access without compromising national security.

Reasons: Secured Area

16 Buildings

Radford Army Ammunition Plant

Radford VA 24143

Landholding Agency: Army

Property Number: 21201520020

Status: Unutilized

Directions: Buildings 71091, 71092A, 71101, 71101A, 7115, 7136, 2511, 2516A, 2516B, 2521, 2521A, 2554, 71102A, 71092, 71102, 71122

Comments: Public access denied and no alternative method to gain access without compromising national security.

Reasons: Secured Area

Wisconsin

Building 01301

S 10th Avenue

Fort McCoy WI 54656

Landholding Agency: Army

Property Number: 21201520030

Status: Unutilized

Comments: Public access denied and no alternative method to gain access without compromising national security.

Reasons: Secured Area

[FR Doc. 2015-15404 Filed 6-25-15; 8:45 am]

BILLING CODE 4210-67-P